ENVIROMENTAL PROTECTION AGENCY

[FRL-9457-3 ]

Clean Air Act Operating Permit Program; Response to Petition To Reopen the 2001 Title V Permit for Reliant Portland Generating Station, Upper Mount Bethel Township, Northampton County, PA

AGENCY: Environmental Protection Agency (EPA).

ACTION: Notice of action denying petition to reopen Title V permit.

SUMMARY: Pursuant to the Clean Air Act (CAA), the Director of the EPA Region III Air Protection Division issued a letter, dated July 8, 2011, denying a petition, filed by New Jersey, asking that EPA reopen the 2001 Title V permit issued by the Pennsylvania Department of Environmental Protection (PADEP) to Reliant Energy Mid-Atlantic Power Holdings, LLC, for its Portland Generating Station in Northampton County, Pennsylvania.

FOR FURTHER INFORMATION CONTACT: Kathleen Cox, Associate Director, Office of Permits and Air Toxics, Air Protection Division, EPA Region III (3AP10), telephone (215) 814-2173; e-mail: cox.kathleen@epa.gov.

SUPPLEMENTARY INFORMATION:

I. How can I get copies of this document and other related information?

Copies of the letter responding to the Petition to Reopen, the Petition to Reopen and attachments to the Petition, and other relevant documents relating thereto are on file at the following location: Environmental Protection Agency, Region III, Air Protection Division (APD), 1650 Arch Street, Philadelphia, Pennsylvania 19103.

II. Background

On or about July 23, 2009, the New Jersey Attorney General's Office filed a petition to reopen the 2001 Title V permit issued to the Reliant Portland Generating Station in Northampton County, Pennsylvania. The petition to reopen followed a 2006 petition by New Jersey under Section 505(b)(2) of the Clean Air Act asking EPA to object to the issuance of a new Title V permit to Reliant Portland, and a subsequent 2008 petition from New Jersey asking EPA to reconsider its 2007 denial of the Petition to Object. EPA denied the petition for reconsideration. New Jersey also filed an appeal of EPA's initial denial of the petition to object, and an appeal of EPA's denial of the petition to reconsider, in the U.S. Court of Appeals for Third Circuit. Under the terms of a settlement agreement between EPA and New Jersey, New Jersey dismissed with prejudice its appeals and the United States agreed to respond to the petition to reopen within one year. This letter is EPA's response to the petition to reopen.

III. Judicial Review

Section 307(b)(1) of the Clean Air Act indicates which Federal Courts of Appeals have venue for petitions for review of final actions by EPA. For final actions which are not nationally applicable, Section 307(b)(1) provides that appeals shall be filed in the United States Court of Appeals for the appropriate circuit. The denial of New Jersey's petition to reopen the 2001 Title V permit for the Reliant Portland Generating Station is a final action which is not nationally applicable. The Third Circuit Court of Appeals is the appropriate court of appeals. Section 307(b)(1) also requires that any petition for review must be filed within sixty (60) days from the date that this Notice is published in the Federal Register.

Dated: August 9, 2011.
W.C. Early,
Acting Regional Administrator, Region III.

[FR Doc. 2011-21933 Filed 8-25-11; 8:45 am]

BILLING CODE 6560-50-P